SOCIAL SECURITY ADMINISTRATION

[Docket No: SSA-2015-0043]

Agency Information Collection Activities: Comment Request

The Social Security Administration (SSA) publishes a list of information collection packages requiring clearance by the Office of Management and Budget (OMB) in compliance with Public Law 104-13, the Paperwork Reduction Act of 1995, effective October 1, 1995. This notice includes revisions and one extension of OMB-approved information collections, as well as one collection in use without an OMB number.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2015-0043].

SSA submitted the information collection below to OMB for clearance. Your comments regarding the information collection would be most useful if OMB and SSA receive them 30 days from the date of this publication. To be sure we consider your comments, we must receive them no later than August 6, 2015. Individuals can obtain copies of the OMB clearance package by writing to OR.Reports.Clearance@ssa.gov.

1. Authorization for the Social Security Administration to Obtain Personal Information—20 CFR 404.704; 404.820—404.823; 404.1926; 416.203; and 418.3001—0960—NEW. SSA requests respondents fill out Form SSA-8510, allowing SSA to contact a public or private custodian of records on behalf of an applicant or recipient of an SSA program to request evidence information, which may support a benefit application or payment continuation. We ask for evidence information such as the following:

• Age requirements (e.g. birth certificate, court documents)

• Insured status (e.g. earnings, employer verification)

• Marriage or divorce information

• Pension offsets

• Wages verification

• Annuities

• Property information

• Benefit verification from a State agency or third party

• Immigration status (rare instances)

• Income verification from public agencies or private individuals

• Unemployment benefits

• Insurance policies

If the custodian requires a signed authorization from the individual(s) whose information SSA requests, SSA may provide the custodian with a copy of the SSA-8510. Once the respondent completes the SSA-8510, either using the paper form, or using the Modernized Supplemental Security Income Claims System (MSSICS) version, SSA uses the form as the authorization to obtain personal information regarding the respondent from third parties until the authorizing person (respondent) revokes the permission of its usage. The collection is voluntary; however, failure to verify the individuals' eligibility can prevent SSA from making an accurate and timely decision for their benefits. The respondents are individuals who may file for, or currently receive, Social Security benefits, SSI payments, or Medicare part D subsidies.

Type of Request: Information Collection in Use Without an OMB Number.

Modality of completion | Number of respondents | Frequency of response | Average burden per response (minutes) | Estimated total annual burden (hours)
* SSA-8510—Medicare Subsidy Quality Review (paper version) | 3,500 | 1 | 5 | 292
SSA-8510—Title II and Title XVI general evidence (paper version) | 19,800 | 1 | 5 | 1,650
** SSA-8510—Title II and Title XVI general evidence (MSSICS version) | 140,145 | 1 | 5 | 11,679
Totals | 163,445 |  |  | 13,621
* Currently in use under OMB Number 0960-0707.
** New information collection, which SSA will implement upon OMB approval.

Dated: July 1, 2015.
Naomi R. Sipple,
Reports Clearance Officer, Social Security Administration.

[FR Doc. 2015-16612 Filed 7-6-15; 8:45 am]

BILLING CODE 4191-02-P